NUCLEAR REGULATORY COMMISSION

[Docket Nos. 50-458 and 72-49; NRC-2017-0239]

In the Matter of Entergy Louisiana, LLC and Entergy Operations, Inc., River Bend Station, Unit 1, and Independent Spent Fuel Storage Installation Facility

AGENCY: Nuclear Regulatory Commission.

ACTION: Indirect transfer of license; order.

SUMMARY: The U.S. Nuclear Regulatory Commission (NRC) is issuing an order to permit the indirect transfer of membership interests in Entergy Louisiana, LLC (ELL; the owner of River Bend Station, Unit 1, and the independent spent fuel storage installation facility) to the extent ELL is affected by the addition of Entergy Arkansas, LLC; Entergy Mississippi, LLC; and Entergy New Orleans, LLC to Entergy Utility Holding Company, LLC (EUHC). Upon execution of the transfer, these changes will result in additional members of EUHC that may dilute the resources and voting power of its members, including ELL.

DATES: The Order was issued on August 1, 2018, and is effective for one year.

ADDRESSES: Please refer to Docket ID NRC-2017-0239 when contacting the NRC about the availability of information regarding this document. You may obtain publicly-available information related to this document using any of the following methods:

• Federal Rulemaking Website: Go to http://www.regulations.gov and search for Docket ID NRC-2017-0239. Address questions about NRC dockets to Jennifer Borges; telephone: 301-287-9127; e-mail: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by e-mail to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Margaret W. O'Banion, Office of Nuclear Reactor Regulation, U.S. Nuclear Regulatory Commission, Washington, DC 20555-0001; telephone: 301-415-1233; e-mail: Margaret.O'Banion@nrc.gov.

SUPPLEMENTARY INFORMATION: The text of the order is attached.

Dated at Rockville, Maryland, this 7th day of August 2018.
For the Nuclear Regulatory Commission.
Margaret W. O'Banion,
Project Manager, Plant Licensing Branch IV, Division of Operating Reactor Licensing, Office of Nuclear Reactor Regulation.

Attachment—Order Approving Indirect Transfer of Control of License

UNITED STATES OF AMERICA

NUCLEAR REGULATORY COMMISSION

[Docket Nos. 50-458 and 72-49; License No. NPF-47]

In the Matter of Entergy Louisiana, LLC and Entergy Operations, Inc.

River Bend Station, Unit 1

ORDER APPROVING INDIRECT TRANSFER OF CONTROL OF LICENSE

I.

Entergy Louisiana, LLC (ELL) and Entergy Operations, Inc. (EOI) (together, the licensees) are co-holders of Facility Operating License No. NPF-47 for River Bend Station, Unit 1 (RBS), and the general license for the independent spent fuel storage installation (ISFSI). ELL is the owner and EOI is authorized to possess, use, and operate RBS and the ISFSI, which are located in West Feliciana Parish, Louisiana.

II.

By application dated September 21, 2017, EOI requested, on behalf of itself, ELL, and their parent companies (together, the applicants), pursuant to Title 10 of the Code of Federal Regulations (10 CFR) Section 50.80, “Transfer of licenses,” that the U.S. Nuclear Regulatory Commission (NRC) consent to the indirect transfer of membership interests in ELL to the extent ELL is affected by the addition of Entergy Arkansas, LLC (EAL); Entergy Mississippi, LLC (EML); and Entergy New Orleans, LLC (ENOL) to Entergy Utility Holding Company, LLC (EUHC). These changes will result (upon execution of the transfers) in additional members of EUHC that may dilute the resources and voting power of its members.

The application proposes no physical or operational changes to the facilities. The interconnections that provide offsite power to RBS do not change as a result of the proposed indirect license transfer.

The applicants requested NRC approval of the indirect transfer of membership interests in ELL. The NRC published a notice, “Arkansas Nuclear One, Units 1 and 2; Grand Gulf Nuclear Station, Unit 1; River Bend Station, Unit 1; and Waterford Steam Electric Station, Unit 3 Consideration of Approval of Transfer of Licenses and Conforming Amendments,” in the Federal Register on December 29, 2017 (82 FR 61800). No comments or hearing requests were received.

Under 10 CFR 50.80, no license, or any right thereunder, shall be transferred, directly or indirectly, through transfer of control of the license, unless the NRC gives its consent in writing. Upon review of the information in the application and other information before the Commission, the NRC staff has determined that the licensees are qualified to hold the license to the extent proposed to permit the indirect transfer of membership interests in ELL to the extent ELL is affected by the addition of EAL, EML, and ENOL to EUHC. The NRC staff has also determined that the proposed license transfer is otherwise consistent with the applicable provisions of law, regulations, and orders issued by the NRC pursuant thereto. The findings set forth above are supported by an NRC safety evaluation dated August 1, 2018.

III.

Accordingly, pursuant to Sections 161b, 161i, and 184 of the Atomic Energy Act of 1954, as amended; Title 42 of the United States Code Sections 2201(b), 2201(i), and 2234; and 10 CFR 50.80, IT IS HEREBY ORDERED that the application regarding the proposed indirect license transfer is approved.

IT IS FURTHER ORDERED that, after receipt of all required regulatory approvals of the proposed transfer action, EOI shall inform the Director of the Office of Nuclear Reactor Regulation in writing of such receipt, and of the date of closing of the transfer, no later than 5 business days before the date of the closing of the transfer. Should the proposed indirect transfer not be completed within 1 year of this order's date of issuance, this order shall become null and void; however, upon written application and for good cause shown, such date may be extended by order.

This order is effective upon issuance.

For further details with respect to this order, see the application dated September 21, 2017 (Agencywide Documents Access and Management System (ADAMS) Accession No. ML17268A213), and the NRC's safety evaluation dated August 1, 2018 (ADAMS Accession No. ML18177A236), which are available for public inspection at the NRC's Public Document Room, located at One White Flint North, Public File Area 01-F21, 11555 Rockville Pike (first floor), Rockville, Maryland. Publicly available documents created or received at the NRC are accessible electronically through ADAMS in the NRC Library at http://www.nrc.gov/reading-rm/adams.html. Persons who do not have access to ADAMS, or who encounter problems accessing the documents located in ADAMS, should contact the NRC Public Document Room reference staff by telephone at 1-800-397-4209 or 301-415-4737, or by e-mail to pdr.resource@nrc.gov.

Dated at Rockville, Maryland, this 1st day of August 2018.

For the Nuclear Regulatory Commission.

Joseph G. Giitter,

Director, Division of Operating Reactor Licensing, Office of Nuclear Reactor Regulation.

[FR Doc. 2018-17167 Filed 8-9-18; 8:45 am]

BILLING CODE 7590-01-P